DEPARTMENT OF LABOR

Employment and Training Administration

[TA-W-62,376]

Dixie Consumer Products, LLC, Dixie Products Division, a Subsidiary of Georgia-Pacific, Including Leased Workers of Staffmark, Los Angeles, CA; Notice of Termination of Investigation; Findings of the Investigation

Pursuant to Section 221 of the Trade Act of 1974, as amended, an investigation was initiated on October 29, 2007 in response to a worker petition filed on behalf of workers of Dixie Consumer Products, LLC, Dixie Products Division, a subsidiary of Georgia Pacific, Los Angeles, California.

The petitioning group of workers is covered by an active certification (TA-W-62,268) which expires on October 23, 2009. Consequently, further investigation in this case would serve no purpose, and the investigation has been terminated.

Signed at Washington, DC, this 14th day of November 2007.
Richard Church,
Certifying Officer, Division of Trade Adjustment Assistance.

[FR Doc. E7-22749 Filed 11-20-07; 8:45 am]

BILLING CODE 4510-FN-P